DEPARTMENT OF STATE

[Public Notice: 12568]

Notice of Public Meeting of the Advisory Committee on Responsible Business Conduct

SUMMARY: This notice announces the public meeting of the Advisory Committee on Responsible Business Conduct (RBC Advisory Committee) on November 14, 2024, from 9:00 a.m. to 5:00 p.m. ET.

FOR FURTHER INFORMATION CONTACT: Emily Santor, Foreign Affairs Analyst, telephone: 202-679-5368, email: RBCAdvisoryCommittee@state.gov.

SUPPLEMENTARY INFORMATION: The RBC Advisory Committee will meet in a hybrid meeting on November 14, 2024, from 9:00 a.m. to 5:00 p.m. to hear, deliberate, and vote on the preliminary recommendations of its subcommittees: the Subcommittee on the U.S. National Contact Point for the Organization for Economic Cooperation and Development Guidelines for Multinational Enterprises, the Subcommittee on National Action Plan Implementation, and the Subcommittee on Human Rights and Environmental Due Diligence.

Members of the public wishing to participate must register by 11:59 p.m. ET November 6, 2024, via email to RBCAdvisoryCommittee@state.gov, with the subject line “Registration.” To register, please include your name, title, affiliation, and the email you will use to access the meeting. The Department will provide login information prior to the meeting. Meeting minutes and future recommendation reports will be available to the public at the RBC Advisory Committee website and the RBC Advisory Committee page of the FACA Database.

Public comments and requests for accommodation can be sent to RBCAdvisoryCommittee@state.gov and must be submitted by 11:59 p.m. ET on November 11, 2024. The subject line for comment submissions should include “Public Comment.” During this meeting, there will not be an option for members of the public to make oral statements. Requests for reasonable accommodation should be submitted with the subject line “Accommodations Request.” Reasonable accommodation requests received after the submission deadline will be considered but may not be possible to fulfill.

(Authority: 5 U.S.C. 1001 et seq. and 5 U.S.C. 552)

Jordyn E. Arndt,
Senior Foreign Affairs Officer, Office of Multilateral and Global Affairs, Department of State.

[FR Doc. 2024-24460 Filed 10-21-24; 8:45 am]

BILLING CODE 4710-18-P